FEDERAL COMMUNICATIONS COMMISSION

[WC Docket No. 23-1; DA 23-471; FR ID [226670]

Next Meeting of the North American Numbering Council

AGENCY: Federal Communications Commission.

ACTION: Notice.

SUMMARY: In this document, the Commission released a public notice announcing a meeting of the North American Numbering Council (NANC).

DATES: December 12, 2024. The meeting will come to order at 2:00 p.m.

ADDRESSES: The meeting will be conducted in person in the Commission Meeting Room of the Federal Communications Commission, 45 L Street NE, Washington, DC, and available to the public via the internet at http://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The meeting will be held Thursday, December 12, 2024 from 2:00 p.m. until 4:00 p.m. ET in person in the Commission Meeting Room of the Federal Communications Commission, 45 L Street NE, Washington, DC and via the internet at http://www.fcc.gov/live. While the meeting is open to the public, the FCC headquarters building is not open access, and all guests must check in with and be screened by FCC security at the main entrance on L Street, Attendees will not be required to have an appointment but must otherwise comply with protocols outlined at: https://www.fcc.gov/visit. Additionally, the meeting will be available to the blic via live feed from the FCC's web page at http://www.fcc.gov/live. Open captioning will be provided online for this event. Other reasonable accommodations for people with disabilities are available upon request. Requests for such accommodations should be submitted via email to fcc504@fcc.gov or by calling the Consumer & Governmental Affairs Bureau at (202) 418-0530. Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in WC Docket No. 23-1.

This is a summary of the Commission's document in WC Docket No. 23-1, DA 24-554, released June 11, 2024.

Proposed Agenda: At the December meeting, the NANC will consider and vote on reports and recommendations from the following Working Groups: (1) The Call Authentication Trust Anchor Working Group regarding foreign-originated calls, the use of indirectly obtained numbers, and the use of numbers supplied on a trial basis by interconnected VoIP providers that obtain direct access to numbers; (2) the Numbering Administration Oversight Working Group regarding number use and resale, and number reclamation, by interconnected VoIP providers that obtain direct access to numbers; and (3) the Internet of Things Numbering Usage Working Group regarding the use of North American Numbering Plan numbers for the routing and addressing of Internet of Things communications.

(5 U.S.C. ch. 10)

Federal Communications Commission.
Edward Krachmer,
Deputy Chief, Competition Policy Division, Wireline Competition Bureau.

[FR Doc. 2024-13909 Filed 6-24-24; 8:45 am]

BILLING CODE 6712-01-P